DEPARTMENT OF THE INTERIOR

National Park Service

Notice of Availability of a Record of Decision on the Final Environmental Impact Statement for the Arrowhead-Weston Transmission Line River Crossing/Right-of-Way Request, Saint Croix National Scenic River

AGENCY: National Park Service, Department of the Interior.

SUMMARY: Pursuant to § 102(2)(C) of the National Environmental Policy Act of 1969, Public Law 91-190, 83 Stat. 852, 853, as codified as amended at 42 U.S.C. 4332(2)(C), the National Park Service (NPS) announces the availability of the record of decision for the Arrowhead-Weston Transmission Line River Crossing/Right-Of-Way Request. On February 23, the Director, Midwest Region, approved the record of decision for the crossing/right-of-way (ROW) request. Specifically, the NPS has selected the preferred alternative (alternative 1: Long-span option) as described in the final environmental impact statement (EIS). Under the selected action, the NPS will issue a 120-foot wide ROW permit to Minnesota Power, Wisconsin Public Service Corporation, and American Transmission Company (the Applicants) to allow for construction and operation of alternative 1: Long-span option, which is a double-circuited, alternating current, 161 and 345-kilovolt transmission line crossing of the Namekagon River, a segment of the Saint Croix National Scenic Riverway (Riverway).

The selected action and four other alternatives were analyzed in the draft and final EIS. The full range of foreseeable environmental consequences was assessed. Among the alternatives the NPS considered, the selected action best provides a combination of limiting impacts in the crossing area and providing enhancements throughout the Riverway. The NPS believes the preferred alternative allows for a transmission line crossing of the Namekagon River while minimizing and compensating for impacts to the Riverway. The river crossing will have no impact on the free-flowing characteristics of the Namekagon River and is consistent with the park's general management plan which calls for new crossings to be consolidated in existing crossings. The preferred will allow supporting structures to be set back from line-of-sight of the river, and will require less ground, vegetation, and ongoing maintenance disturbances. The compensatory mitigation package will eliminate up to eight distribution line crossings, provide noise abatement measures on a nearby stretch of the Riverway, and provide funds for studies and activities to enhance scenery and recreation along the Riverway.

The record of decision includes a statement of the decision made, synopses of other alternatives considered, the basis for the decision, the rationale for why the selected action is the environmentally preferred alternative, a finding on impairment of park resources and values, and an overview of public involvement in the decisionmaking process.

FOR FURTHER INFORMATION CONTACT: Ms. Jill Medland, Saint Croix National Scenic Riverway, 401 Hamilton Street, P.O. Box 708, Saint Croix Falls, Wisconsin 54024; phone 715 483-3284, extension 609. Copies of the record of decision may be obtained from the contact listed above.

Dated: February 22, 2005.
Ernest Quintana,
Regional Director, Midwest Region.

[FR Doc. 05-5446 Filed 3-18-05; 8:45 am]

BILLING CODE 4312-96-P